DEPARTMENT OF ENERGY

Federal Energy Regulatory Commission

Combined Notice of Filings #1

Take notice that the Commission received the following exempt wholesale generator filings:

Docket Numbers: EG24-108-000.

Applicants: SR Toombs, LLC.

Description: SR Toombs, LLC submits Notice of Self-Certification of Exempt Wholesale Generator Status.

Filed Date: 2/14/24.

Accession Number: 20240214-5160.

Comment Date: 5 p.m. ET 3/6/24.

Docket Numbers: EG24-109-000.

Applicants: Russellville Solar LLC.

Description: Russellville Solar LLC submits Notice of Self-Certification of Exempt Wholesale Generator Status.

Filed Date: 2/14/24.

Accession Number: 20240214-5161.

Comment Date: 5 p.m. ET 3/6/24.

Docket Numbers: EG24-110-000.

Applicants: SR Ailey, LLC.

Description: SR Ailey, LLC submits Notice of Self-Certification of Exempt Wholesale Generator Status.

Filed Date: 2/14/24.

Accession Number: 20240214-5164.

Comment Date: 5 p.m. ET 3/6/24.

Docket Numbers: EG24-111-000.

Applicants: SR Toombs Lessee, LLC.

Description: SR Toombs Lessee, LLC submits Notice of Self-Certification of Exempt Wholesale Generator Status.

Filed Date: 2/14/24.

Accession Number: 20240214-5167.

Comment Date: 5 p.m. ET 3/6/24.

Take notice that the Commission received the following electric rate filings:

Docket Numbers: ER22-2643-000.

Applicants: Three Corners Solar, LLC.

Description:Refund Report: Revised Refund Report to be effective N/A.

Filed Date: 2/14/24.

Accession Number: 20240214-5079.

Comment Date: 5 p.m. ET 3/6/24.

Docket Numbers: ER24-333-000; ER24-334-000.

Applicants: Oak Lessee, LLC, Oak Solar, LLC.

Description: Oak Solar, LLC, et al. submits Response to FERC`s January 2, 2024, Deficiency Letter and Request for Additional Information.

Filed Date: 2/2/24.

Accession Number: 20240202-5005.

Comment Date: 5 p.m. ET 2/23/24.

Docket Numbers: ER24-1244-000.

Applicants: Southwest Power Pool, Inc.

Description: 205(d) Rate Filing: 4220 SWEPCO GIA to be effective 1/25/2024.

Filed Date: 2/14/24.

Accession Number: 20240214-5045.

Comment Date: 5 p.m. ET 3/6/24.

Docket Numbers: ER24-1245-000.

Applicants: New England Power Pool Participants Committee, ISO New England Inc.

Description: 205(d) Rate Filing: New England Power Pool Participants Committee submits tariff filing per 35.13(a)(2)(iii: Revisions to Forward Reserve Market Offer Cap and Data Publication Timeline to be effective 4/15/2024.

Filed Date: 2/14/24.

Accession Number: 20240214-5087.

Comment Date: 5 p.m. ET 3/6/24.

Docket Numbers: ER24-1246-000.

Applicants: PJM Interconnection, L.L.C.

Description: 205(d) Rate Filing: Original NSA, SA No. 7193; Queue No. AE2-175 to be effective 4/15/2024.

Filed Date: 2/14/24.

Accession Number: 20240214-5106.

Comment Date: 5 p.m. ET 3/6/24.

Docket Numbers: ER24-1247-000.

Applicants: PJM Interconnection, L.L.C.

Description: 205(d) Rate Filing: Amended ISA and ICSA, Service Agreement Nos. 6198 and 6199; AE1-104 to be effective 4/15/2024.

Filed Date: 2/14/24.

Accession Number: 20240214-5145.

Comment Date: 5 p.m. ET 3/6/24.

Docket Numbers: ER24-1248-000.

Applicants: Northern Indiana Public Service Company LLC.

Description: 205(d) Rate Filing: NIPSCO NEET Construction Agreement to be effective 1/24/2024.

Filed Date: 2/14/24.

Accession Number: 20240214-5185.

Comment Date: 5 p.m. ET 3/6/24.

Docket Numbers: ER24-1249-000.

Applicants: Tri-State Generation and Transmission Association, Inc.

Description: 205(d) Rate Filing: Amendment to Rate Schedule FERC No. 32 to be effective 4/15/2024.

Filed Date: 2/14/24

Accession Number: 20240214-5186

Comment Date: 5 p.m. ET 3/6/24.

The filings are accessible in the Commission's eLibrary system (https://elibrary.ferc.gov/idmws/search/fercgensearch.asp) by querying the docket number. Any person desiring to intervene, to protest, or to answer a complaint in any of the above proceedings must file in accordance with Rules 211, 214, or 206 of the Commission's Regulations (18 CFR 385.211, 385.214, or 385.206) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: February 14, 2024.
Debbie-Anne A. Reese,
Acting Secretary.

[FR Doc. 2024-03493 Filed 2-20-24; 8:45 am]

BILLING CODE 6717-01-P